DEPARTMENT OF DEFENSE

Department of the Army

Performance Review Board Membership

Correction

In notice document 05-22092 beginning on page 67459 in the issue of Monday, November 7, 2005, make the following corrections:

1. On page 67460, in the first column, in entry #3, in the first line, “Furany” should read “Gurany”.

2. On the same page, in the same column, in the last line, “CF/IT” should read “C4/IT”.

3. On page 67461, in the third column, in entry #17, in the first line, “Meredth” should read “Meredith”.

[FR Doc. C5-22092 Filed 11-10-05; 8:45 am]

BILLING CODE 1505-01-D

DEPARTMENT OF JUSTICE

Notice of Lodging of Consent Decree Under The Clean Water Act

Correction

In notice document 05-21885 beginning on page 66465 in the issue of Wednesday, November 2, 2005, make the following correction:

On page 66465, in the third column, in the first paragraph, in the ninth line, “Columbia” should read “California.”

[FR Doc. C5-21885 Filed 11-10-05; 8:45 am]

BILLING CODE 1505-01-D